DEPARTMENT OF COMMERCE

National Oceanic and Atmospheric Administration

15 CFR Part 902

50 CFR Part 648

[Docket No. 0907281181-0040-03]

RIN 0648-AX93

Fisheries of the Northeastern United States; Reporting Requirement for Midwater Trawl Vessels Fishing in Closed Area I

AGENCY: National Marine Fisheries Service (NMFS), National Oceanic and Atmospheric Administration (NOAA), Commerce.

ACTION: Final rule; effectiveness of a collection-of-information requirement.

SUMMARY: NMFS announces approval by the Office of Management and Budget (OMB) of a collection-of-information requirement contained in Northeast (NE) Multispecies regulations for midwater trawl herring vessels that fish in groundfish Closed Area I (CA I). The intent of this final rule is to implement these additional reporting requirements.

DATES: This rule is effective March 5, 2010. The amendments to 50 CFR 648.14(r)(2)(vii) and 648.80(d)(7)(iii)(B), published in the Federal Register on November 2, 2009 (74 FR 56562), will become effective on March 5, 2010.

ADDRESSES: Written comments regarding the burden-hour estimates or other aspects of the collection-of-information requirements contained in this final rule may be submitted to the Regional Administrator, NMFS Northeast Region, 55 Great Republic Drive, Gloucester, MA 01930 and by e-mail to David_Rostker@omb.eop.gov, or fax to (202) 395-7285.

FOR FURTHER INFORMATION CONTACT: Douglas Potts, Fishery Policy Analyst, (978) 281-9341, fax (978) 281-9135.

SUPPLEMENTARY INFORMATION: A final rule implementing modifications to the Gulf of Maine/Georges Bank (GOM/GB) Herring Midwater Trawl Gear Letter of Authorization (LOA) published in the Federal Register on November 2, 2009 (74 FR 56562). The measures contained in the rule were effective upon publication, with the exception of new requirements for vessel operators to complete and submit a CA I Midwater Trawl Released Codend Affidavit. Because OMB approval of the CA I Midwater Trawl Released Codend Affidavit had not been received by the date the final rule was published, NMFS delayed the effective date of the associated reporting requirements. These reporting requirements were detailed in the proposed rule (September 4, 2009; 74 FR 45798), with public comment accepted through September 27, 2009. All comments received on the proposed measures were addressed in the November 2, 2009, final rule and are not repeated here.

On January 4, 2010, OMB approved, without change, the collection-of-information contained in the CA I Midwater Trawl Released Codend Affidavit. Accordingly, effective March 5, 2010, if a vessel issued an All Areas and/or an Areas 2 and 3 Limited Access Herring Permit releases a net in CA I before the fish can be sampled by the observer, the vessel operator must complete and sign a CA I Midwater Trawl Released Codend Affidavit, as specified in §§ 648.14(r)(2)(vii) and 648.80(d)(7)(iii)(B). The CA I Midwater Trawl Released Codend Affidavit form includes details of where, when, and why the net was released as well as a good-faith estimate of both the total weight of fish caught on that tow and the weight of fish released (if the tow had been partially pumped). The completed affidavit form must be submitted to NMFS within 48 hr of the completion of the trip.

Under NOAA Administrative Order 205-11, 7.01, dated December 17, 1990, the Under Secretary of Oceans and Atmosphere has delegated to the Assistant Administrator for Fisheries, NOAA, the authority to sign material for publication in the Federal Register.

Classification

There is good cause under 5 U.S.C. § 553(b)(B) to waive prior notice and an opportunity for public comment on this action, as notice and comment would be unnecessary and contrary to the public interest. This reporting requirement was detailed in the September 4, 2009, proposed rule, with public comments accepted through September 27, 2009. This reporting requirement was also detailed in the November 2, 2009, final rule, which also explained that implementation of the requirement was delayed pending OMB approval of the form. Therefore, the public has previously been provided with notice of this measure and opportunity to comment. Providing additional notice and comment would further delay the collection of bycatch discard information. The time required for additional notice and public comment would likely delay the implementation of this reporting requirement past the period in early spring when midwater trawl vessels have historically fished in Closed Area I. If this reporting requirement were not in place by that time, valuable information on bycatch discard would not be collected. The New England Fishery Management Council has expressed an interest in using data collected under this program in the current development of Amendment 5 to the FMP.

This final rule has been determined to be not significant for purposes of Executive Order 12866.

This final rule contains a new collection-of-information requirement subject to the Paperwork Reduction Act (PRA). The new collection-of-information requirement pertaining to the CA I Midwater Trawl Released Codend Affidavit has been approved by OMB under OMB control number 0648-0602. Public reporting burden for these requirements is estimated to average 5 min per response, including the time for reviewing instructions, searching existing data sources, gathering and maintaining the data needed, and completing and reviewing the collection of information.

Send comments regarding these burden estimates or any other aspect of this data collection, including suggestions for reducing the burden, to NMFS at the ADDRESSES above, and e-mail to David_Rostker@omb.eop.gov, or fax to (202) 395-7285.

Notwithstanding any other provision of the law, no person is required to respond to, and no person shall be subject to penalty for failure to comply with, a collection of information subject to the requirements of the PRA, unless that collection of information displays a currently valid OMB control number.

List of Subjects in 15 CFR Part 902

Reporting and recordkeeping requirements.

Dated: January 28, 2010.
Samuel D. Rauch III,
Deputy Assistant Administrator for Regulatory Programs, National Marine Fisheries Service.

For the reasons set out in the preamble, 15 CFR part 902 is amended as follows:

PART 902-NOAA INFORMATION COLLECTION REQUIREMENTS UNDER THE PAPERWORK REDUCTION ACT: OMB CONTROL NUMBERS

1. The authority citation for part 902 continues to read as follows:

Authority: 44 U.S.C. 3501 et seq.

2. In § 902.1, the table in paragraph (b) under 50 CFR is amended by revising the existing entries for §§ 648.14 and 648.80 to read as follows:

§ 902.1 OMB control number assigned pursuant to the Paperwork Reduction Act.

(b) * * *

CFR part or section where the information collection requirement is located | Current OMB control number (All numbers begin with 0648-)
| * * * * *
50 CFR |
| * * * * *
648.14 | -0202, -0212,-0469,-0489, -0501, -0502, and -0602
| * * * * *
648.80 | -0202, -0422, -0489, -0521, and -0602
| * * * * *

[FR Doc. 2010-2291 Filed 2-2-10; 8:45 am]

BILLING CODE 3510-22-S